SECURITIES AND EXCHANGE COMMISSION

[Release No. 34-85500; File No. SR-BX-2018-025]

Self-Regulatory Organizations; Nasdaq BX, Inc.; Notice of Withdrawal of Proposed Rule Change, As Modified By Amendment No. 1, To Make Permanent the Retail Price Improvement Program Pilot, Which Is Set To Expire on June 30, 2019

April 3, 2019.

On July 9, 2018, Nasdaq BX, Inc. (“BX” or “Exchange”) filed with the Securities and Exchange Commission (“Commission”), pursuant to Section 19(b)(1) of the Securities Exchange Act of 1934 (“Act”) ¹ and Rule 19b-4 thereunder,² a proposed rule change to make permanent the pilot program for the Exchange's Retail Price Improvement program, which is set to expire on June 30, 2019. The proposed rule change was published for comment in the Federal Register on July 26, 2018.³ On August 31, 2018, the Commission designated a longer period within which to approve the proposed rule change, disapprove the proposed rule change, or institute proceedings to determine whether to disapprove the proposed rule change, to October 24, 2018.⁴ On October 11, 2018, the Exchange filed Amendment No. 1 to the proposed rule change, which replaced and superseded the proposed rule change as originally filed.

¹ 15 U.S.C. 78s(b)(1).

² 17 CFR 240.19b-4.

³ See Securities Exchange Act Release No. 83681 (July 20, 2018), 83 FR 35516 (July 26, 2018).

⁴ See Securities Exchange Act Release No. 84013 (August 31, 2018), 83 FR 45479 (September 7, 2018).

On October 23, 2018, the Commission instituted proceedings under Section 19(b)(2)(B) of the Act ⁵ to determine whether to approve or disapprove the proposed rule change and published Amendment No. 1 in the Federal Register.⁶ On December 26, 2018, the Commission designated a longer period for the Commission to issue an order approving or disapproving the proposed rule change, to March 23, 2019.⁷ The Commission received no comments on the proposal. On March 20, 2019, the Exchange withdrew the proposed rule change (SR-BX-2018-025).

⁵ 15 U.S.C. 78s(b)(2)(B).

⁶ See Securities Exchange Act Release No. 84472 (October 23, 2018), 83 FR 54401 (October 29, 2018).

⁷ See Securities Exchange Act Release No. 84974 (December 26, 2018), 84 FR 0870 (January 31, 2019).

For the Commission, by the Division of Trading and Markets, pursuant to delegated authority.⁸
⁸ 17 CFR 200.30-3(a)(12).
Eduardo A. Aleman,
Deputy Secretary.

[FR Doc. 2019-06924 Filed 4-8-19; 8:45 am]

BILLING CODE 8011-01-P